DEPARTMENT OF HOMELAND SECURITY

Federal Emergency Management Agency

[Docket ID: FEMA-2009-0001]

Agency Information Collection Activities: Submission for OMB Review; Comment Request

AGENCY: Federal Emergency Management Agency, DHS.

ACTION: Notice; 30-day notice and request for comments; revision of a currently approved information collection; OMB No. 1660-0087; No Forms.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and includes the actual data collection instruments FEMA will use.

DATES: Comments must be submitted on or before October 13, 2009.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections@dhs.gov.

SUPPLEMENTARY INFORMATION:

Collection of Information

Title: PrepCAST (formerly NIMSCAST).

Type of information collection: Revision of a currently approved information collection.

OMB Number: 1660-0087.

Form Titles and Numbers: No forms.

Abstract: The PrepCAST is a standardized data collection and assessment process that effectively assesses prevention, protection, response, and recovery capabilities at the regional, State, local, and Tribal levels. In the National Incident Management System collection tool, data will be collected on the respondent's ability to meet the established NIMS Implementation Objectives. The State Preparedness Report collection tool will address questions about current capabilities that have not already been answered through other assessments and reports, focusing on level of performance of individual activities for the 37 capabilities set forth in the Target Capabilities List (TCL) 2.0. FEMA collects this data to guide policy and resource allocation decisions.

Affected Public: State, Local and Tribal Government.

Estimated Number of Respondents: 3,982.

Frequency of Response: Once.

Estimated Average Hour Burden per Respondent: 6.10 hours.

Estimated Total Annual Burden Hours: 24,278 hours.

Estimated Cost: There is no annual reporting and recordkeeping cost associated with this collection.

Larry Gray,
Director, Records Management Division, Office of Management, Federal Emergency Management Agency, Department of Homeland Security.

[FR Doc. E9-21753 Filed 9-9-09; 8:45 am]

BILLING CODE 9111-46-P